BUREAU OF CONSUMER FINANCIAL PROTECTION

[Docket No: CFPB-2018-0021]

Privacy Act of 1974; System of Records

AGENCY: Bureau of Consumer Financial Protection.

ACTION: Rescindment of a System of Records Notice.

SUMMARY: In accordance with the Privacy Act of 1974, as amended, the Bureau of Consumer Financial Protection (Bureau) provides notice that it is rescinding CFPB.012 Interstate Land Sales Registration Files from its inventory of record systems.

The Interstate Land Sales Registration Program (ILS Program) was developed as required by Interstate Land Sales Full Disclosure Act of 1968. Originally, the Department of Housing and Urban Development (HUD) maintained the ILS Program; ownership of this program transferred from HUD to the Bureau as required by the Dodd-Frank Wall Street Reform and Consumer Protection Act. The ILS Program maintains information submitted by developers of land or other individuals offering 25 or more lots for sale and using any means or instruments of interstate commerce (including the mails) in promoting or selling properties pursuant to the requirements of the Interstate Land Sales Full Disclosure Act, and in the administration and management of the Interstate Land Sales Registration Program.

The Bureau is rescinding this System of Records Notice because the ILS Program collects no individual identifiers on which searches are conducted, thereby making a System of Records Notice unnecessary.

DATES: Comments must be received no later than June 18, 2018. This Rescindment will be effective upon publication in today's Federal Register. The Bureau will continue to operate the ILS Program in its current form, which does not require a System of Records Notice.

ADDRESSES: You may submit comments, identified by the title and docket number (see above), by any of the following methods:

• Electronic: privacy@cfpb.gov or http://www.regulations.gov. Follow the instructions for submitting comments.

• Mail: Claire Stapleton, Chief Privacy Officer, Bureau of Consumer Financial Protection, 1700 G Street NW, Washington, DC 20552.

• Hand Delivery/Courier: Claire Stapleton, Chief Privacy Officer, Bureau of Consumer Financial Protection, 1700 G Street NW, Washington, DC 20552.

Comments will be available for public inspection and copying at 1700 G Street NW, Washington, DC 20552, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, at (202) 435-7220. If you require this document in an alternative electronic format, please contact CFPB_Accessibility@cfpb.gov.

SUPPLEMENTARY INFORMATION: The files for the ILS Program are organized and searchable only by business and parcel information. While the ILS Program also contains certain kinds of personally identifiable information, it does not collect individual identifiers on which searches are conducted and there is no accompanying file or process to cross-reference this kind of information to an individual. The ILS Program, therefore, does not require a System of Records Notice and the rescindment of such of notice would likely have little effect on the privacy of individuals whose information was maintained in the system of records. Rescindment of this System of Records Notice will also promote the overall streamlining and management of the CFPB Privacy Act record systems.

SYSTEM NAMES AND NUMBERS:

CFPB.012 Interstate Land Sales Registration Files.

HISTORY:

76 FR 77470 (Dec. 13, 2011) (CFPB.012 Interstate Land Sales Registration Files).

Dated: May 14, 2018.
Claire Stapleton,
Chief Privacy Officer, Bureau of Consumer Financial Protection.

[FR Doc. 2018-10631 Filed 5-17-18; 8:45 am]

BILLING CODE 4810-AM-P